DEPARTMENT OF THE INTERIOR

Bureau of Land Management

[CACA 053643, LLCAD08000.L51010000.ER0000.LVRWB14B5150.14XL5017AP]

Notice of Intent To Amend the California Desert Conservation Area Plan for the Coolwater to Lugo Transmission Line Project and Prepare a Joint Environmental Impact Statement and Environmental Impact Report, San Bernardino County, CA

AGENCY: Bureau of Land Management, Interior.

ACTION: Notice of Intent.

SUMMARY: In compliance with the National Environmental Policy Act of 1969, as amended (NEPA), and the Federal Land Policy and Management Act of 1976, as amended (FLPMA), the Bureau of Land Management (BLM) Barstow Field Office intends to prepare an amendment to the California Desert Conservation Area (CDCA) Plan (1980, as amended) with a joint Environmental Impact Statement (EIS) and Environmental Impact Report (EIR) in cooperation with the California Public Utilities Commission in order to analyze Southern California Edison's proposal for the Coolwater to Lugo Transmission Line Project in San Bernardino County. This notice announces the beginning of the scoping process to solicit public comments and identify issues.

DATES: Comments on issues may be submitted in writing until September 3, 2014. The date(s) and location(s) of any scoping meetings will be announced at least 15 days in advance through local news media, newspapers and the BLM Web site at: http://www.blm.gov/ca/st/en/fo/cdd.html. In order to be included in the analysis, all comments must be received prior to the close of the 30-day scoping period or 15 days after the last public meeting, whichever is later. We will provide additional opportunities for public participation as appropriate.

ADDRESSES: You may submit comments on issues and planning criteria related to the Coolwater to Lugo Transmission Line Project by any of the following methods:

• Web site: http://www.blm.gov/ca/st/en/fo/barstow/renewableenergy/coolwater_lugo.html

• Email: jchilders@blm.gov

• Fax: 951-697-5299

• Mail: ATTN: Jeffery Childers, Project Manager, BLM California Desert District Office, 22835 Calle San Juan de Los Lagos, Moreno Valley, CA 92553-9046

Documents pertinent to this proposal may be examined at the BLM California Desert District Office and the Barstow Field Office.

FOR FURTHER INFORMATION CONTACT: Jeffery Childers, telephone: 951-697-5308; address: BLM California Desert District Office, 22835 Calle San Juan de Los Lagos, Moreno Valley, CA 92553-9046; email: jchilders@blm.gov. Contact Mr. Childers to have your name added to our mailing list. Persons who use a telecommunications device for the deaf (TDD) may call the Federal Information Relay Service (FIRS) at 1-800-877-8339 to contact Mr. Childers during normal business hours. The FIRS is available 24 hours a day, 7 days a week, to leave a message or question for Mr. Childers. You will receive a reply during normal business hours.

SUPPLEMENTARY INFORMATION: Southern California Edison Company (SCE) is proposing a new high-voltage (220/500-kV) transmission line extending 64 miles from SCE's existing Coolwater Generation Station Switchyard located in Daggett, California, to SCE's existing Lugo Substation in Hesperia, California. The proposed Coolwater to Lugo Transmission Line Project (CLTP) would traverse 16 miles of public lands managed by the BLM, with the remainder on private or other lands within San Bernardino County. Approximately 47 miles of the transmission line would parallel or be within existing overhead utility rights-of-way (ROWs) and designated transmission corridors with the remaining 17 miles requiring a plan amendment to the CDCA plan to designate a new transmission line corridor. The proposed project also includes new substation facilities to support transmission line termination and new telecommunication facilities for a Special Protection System to maintain transmission system reliability. The new 500/220/115/12-kV Desert View Substation, which will initially be constructed as a switching station, is southeast of Apple Valley, California. The new telecommunications lines would extend from the Gale Substation to Pisgah Substation and from the new Desert View Substation to the Apple Valley Substation, traversing 6 miles of BLM-managed lands. The majority of the telecommunications fiber optic cable would be installed on existing poles. The project would include installation of 373 new single and double-circuit 220-kV and 500-kV transmission structures, and removal of 168 structures associated with the existing Lugo-Pisgah 220-kV transmission lines No. 1 and No. 2; construction of 25 miles of new roads; upgrades to 17 miles of roads; temporary use and construction areas; and 215 setup areas for conductor pulling and splicing. This project is needed to ensure that power from the nearly completed 275-MW Mojave Solar Project is delivered to population centers in Southern California. Additionally, the line is designed with additional capacity to facilitate the interconnection of future renewable energy projects that are expected to be developed in the region.

This document provides notice that the BLM Barstow Field Office, Barstow, California, intends to prepare a Draft CDCA plan amendment with an associated joint EIS/EIR with the California Public Utilities Commission for the CLTP; announces the beginning of the scoping process; and seeks public input on environmental issues and planning criteria. The purpose of the public scoping process is to determine relevant issues that will influence the scope of the environmental analysis, including alternatives, and guide the planning process. Preliminary issues for the plan amendment area have been identified by BLM personnel, Federal, State, and local agencies, and other stakeholders. The issues include: Air quality and greenhouse gas emissions, biological resources including special status species, cultural resources, geology and soils, hazards and hazardous materials, hydrology and water quality, land use, noise, recreation, traffic, visual resources, cumulative effects, and areas with high potential for renewable energy development. Impacts will be reviewed and the BLM will identify opportunities to apply mitigation strategies for on-site, regional, and compensatory mitigation. Mitigation may include regional compensatory measures for raven management and big horn sheep habitat, and desert tortoise habitat acquisition.

You may submit comments on issues and planning criteria in writing to the BLM at any public scoping meeting, or you may submit them to the BLM using one of the methods listed in the ADDRESSES section above. To be most helpful, you should submit comments by the close of the 30-day scoping period or within 30 days after the last public meeting, whichever is later.

A preliminary list of the potential planning criteria that will be used to help guide and define the scope of the plan amendment includes:

1. The plan amendment will be completed in compliance with FLPMA, NEPA, and all other relevant Federal laws, executive orders, and BLM policies;

2. Existing valid plan decisions will not be changed and any new plan decisions will not conflict with existing plan decisions; and

3. The plan amendment(s) will recognize valid existing rights.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The list of attendees for each scoping meeting and the scoping report will be available to the public and open for 30 days after the meeting to any participant who wishes to clarify the views he or she expressed.

The BLM will evaluate issues to be addressed in the plan, and will place them into one of three categories:

1. Issues to be resolved in the plan amendment;

2. Issues to be resolved through policy or administrative action; or

3. Issues beyond the scope of this plan amendment.

The BLM will provide an explanation in the draft plan amendment/EIS/EIR as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Rangeland management, minerals and geology, outdoor recreation, archaeology, paleontology, wildlife, lands and realty, hydrology, soils, sociology and economics.

Authority: 40 CFR 1501.7 and 43 CFR 1610.2.

Thomas Pogacnik,
Deputy State Director—Resources.

[FR Doc. 2014-18393 Filed 8-1-14; 8:45 am]

BILLING CODE 4310-40-P